DEPARTMENT OF THE INTERIOR

Bureau of Land Management

[LLUT1110000.L16100000.DS0000]

Notice of Availability of the Utah Greater Sage-Grouse Draft Land Use Plan Amendments and Environmental Impact Statement

AGENCY: Bureau of Land Management, Interior.

ACTION: Notice of Availability.

SUMMARY: In accordance with the National Environmental Policy Act of 1969, as amended (NEPA), and the Federal Land Policy and Management Act of 1976, as amended, the Bureau of Land Management (BLM) and U.S. Forest Service (USFS) have prepared a Utah Greater Sage-Grouse Draft Land Use Plan (LUP) Amendments and Environmental Impact Statement (EIS) and by this notice is announcing the opening of the comment period.

DATES: To ensure that comments will be considered, the BLM must receive written comments on the Draft LUP Amendments/EIS within 90 days following the date the Environmental Protection Agency publishes notice of the Draft LUP Amendments/EIS in the Federal Register. The BLM and USFS will announce future meetings or hearings and any other public participation activities at least 15 days in advance through public notices, media releases, and/or mailings.

ADDRESSES: Interested parties may submit comments related to the Utah Greater Sage-Grouse Draft LUP Amendments/EIS by any of the following methods:

• Email: blm_ut_comments@blm.gov

• Fax: 801-539-4074

• Mail: BLM—Greater Sage-Grouse EIS, 440 West 200 South, Suite 500, Salt Lake City, UT 84101-1345

Copies of the Utah Greater Sage-Grouse Draft LUP Amendments/EIS are available at the BLM Utah State Office at the above address or on the Internet at: http://www.blm.gov/ut/st/en/prog/planning/SG_RMP_rev.html.

FOR FURTHER INFORMATION CONTACT: Quincy Bahr, Greater Sage-Grouse Project Manager/Environmental Coordinator, telephone 801-539-4122 or Tyler Ashcroft, Environmental Coordinator, telephone 801-539-4068. Persons who use a telecommunications device for the deaf (TDD) may call the Federal Information Relay Service (FIRS) at 1-800-877-8339 to leave a message or question for the above individual. The FIRS is available 24 hours a day, 7 days a week. Replies are provided during normal business hours.

SUPPLEMENTARY INFORMATION: The BLM prepared the Utah Greater Sage-Grouse Draft LUP Amendments/EIS to address a range of alternatives focused on specific conservation measures across the Utah range of the Greater Sage-Grouse. This Draft LUP Amendments/EIS is one of 15 separate planning efforts that are being undertaken as part of the BLM and USFS National Greater Sage-Grouse Planning Strategy. Since December 2011, the BLM has invited 56 local, State, Federal, and tribal governments to participate as cooperating agencies (CA) in the Utah Greater Sage-Grouse Draft LUP Amendments/EIS. Twenty-six of the governments have participated as CAs including the USFS, U.S. Fish and Wildlife Service (USFWS), National Resource Conservation Service, State of Utah, and the State of Wyoming.

The Draft LUP Amendments/EIS proposes to amend the LUPs for the Vernal, Price, Richfield, Kanab, Grand Staircase-Escalante National Mounument, Cedar/Beaver/Garfield/Antimony, Pinyon, Warm Springs, House Range, Pony Express, Box Elder, Randolph, Park City, and Salt Lake District Isolated Tracts resource or planning areas. The Draft LUP Amendments/EIS will also be used to amend the LUPs for the Dixie, Fishlake, Uinta-Wasatch-Cache, Ashley, and Manti-La Sal National Forests. The current management decisions for resources are described in the following LUPs:

• Vernal Resource Management Plan (RMP) (2008)

• Price RMP (2008)

• Richfield RMP (2008)

• Kanab RMP (2008)

• Grand Staircase-Escalante National Monument Management Plan (2000)

• Cedar/Beaver/Garfield/Antimony RMP (1986)

• Pinyon Management Framework Plan (MFP) (1978)

• Warm Springs RMP (1987)

• House Range RMP (1987)

• Pony Express RMP (1990)

• Box Elder RMP (1986)

• Randolph MFP (1980)

• Park City MFP (1975)

• Salt Lake District Isolated Tracts Planning Analysis (1985)

• Dixie National Forest Land and Resource Management Plan (LRMP) (1986)

• Fishlake National Forest LRMP (1986)

• Uinta National Forest Revised Forest Plan (2003)

• Wasatch-Cache National Forest Revised Forest Plan (2003)

• Ashley National Forest LRMP (1986)

• Manti-La Sal National Forest LRMP (1986)

The planning area includes approximately 48 million acres of BLM, National Park Service, USFS, Bureau of Reclamation, State, local, and private lands located in Utah. It consists of all lands in the State of Utah, minus Washington and San Juan counties and the portions of the Sawtooth National Forest located in Box Elder County. The planning area also includes portions of the Ashley and Uinta-Wasatch-Cache National Forests that extend into Wyoming. Within the planning area, the BLM and USFS administer approximately 3.3 million surface acres. The BLM also administers approximately 4 million acres of Federal subsurface mineral estate underlying occupied Greater Sage-Grouse habitat. Surface management decisions made as a result of this Draft LUP Amendment/EIS will apply only to the BLM-administered and National Forest System lands in the planning area. Through this land use planning process, the BLM and USFS will identify Greater Sage-Grouse preliminary priority management areas (PPMA) and preliminary general management areas (PGMA).

PPMAs are BLM-administered public lands or National Forest System lands identified as having the highest value to maintaining sustainable Greater Sage-Grouse populations. PGMAs are BLM-administered public lands or National Forest System lands that are not as biologically important as PPMAs. In addition to considering which lands will be managed as PPMAs and PGMAs, each alternative considers a unique set of objectives and management actions.

The formal public scoping process for the Draft LUP Amendments/EIS began on December 9, 2011, with the publication of a Notice of Intent in the Federal Register (76 FR 77008), and ended on March 23, 2012. The BLM held eight scoping open houses in January and February 2012. The BLM used comments received during public scoping to help identify planning issues that would direct the formulation of alternatives and frame the scope of analysis for the Draft LUP Amendments/EIS. The public scoping process was also used to introduce the public to preliminary planning criteria, which set limits on the scope of the Draft LUP Amendment/EIS. Major issues considered in the Draft LUP Amendments/EIS include Greater Sage-Grouse, energy and mineral development, lands and realty (including rights-of-way), wildfire, vegetation management (including invasive species and conifer encroachment), livestock grazing, recreation and travel management, and socioeconomics.

The Draft LUP Amendments/EIS evaluates five alternatives in detail, including a No Action Alternative (Alternative A) and four action alternatives (Alternatives B, C, D, and E). Alternative A would retain the management goals, objectives, and direction specified in the current LUPs for each resource or planning area. Alternative B includes conservation measures from the Sage-Grouse National Technical Team Report. Alternative C includes conservation measures that various conservation groups submitted to the BLM during the public scoping process and includes proposed Areas of Critical Environmental Concern (ACEC). Alternative D includes conservation measures developed by the BLM Utah in coordination with the local USFWS and the USFS Intermountain Region (Region 4). Alternative E is based on the State of Utah's Conservation Plan for Greater Sage-Grouse in Utah and the State of Wyoming's Governor's Executive Order 2011-05 and 2013-3.

The BLM and USFS have identified Alternative D as the preferred alternative. Identification of this alternative does not represent the final agency decision. The Proposed LUP Amendments/Final EIS may include objectives and actions contained in any of the alternatives analyzed in the Draft LUP Amendment/EIS.

Pursuant to 43 CFR 1610.7-2(b), this notice announces a concurrent public comment period on proposed Areas of Critical Environmental Concern (ACEC). As part of this planning process, fifteen ACECs are proposed in Alternative C. The proposed Greater-Sage-Grouse ACECs include:

• Three Corners/Browns Park—50,100 acres

• Diamond Mountain—110,300 acres

• Little Mountain/Halfway Hollow—60,700 acres

• Blue Mountain—18,900 acres

• Parker Mountain—201,800 acres

• Southern Mountain Valleys—105,300 acres

• Buckskin Valley—34,900 acres

• Black Mountains—256,800 acres

• Southern Great Basin—101,000 acres

• Sheep Creek Mountains—316,700 acres

• Ibapah—47,000 acres

• Box Elder/Grouse Creek—364,100 acres

• Rich County—166,600 acres

Under Alternative C, the following management prescriptions would apply to all Greater Sage-Grouse habitat, within the proposed ACECs: Closed to new mineral leasing; unsuitable for new surface coal mining; closed to new mineral material disposal; recommended for withdrawal from mineral entry; designated as a right-of-way (ROW) exclusion area; and, unavailable for livestock grazing. Additionally, within the proposed ACECs, the following management would apply:

• Prioritize withdrawal from mineral location and make existing claims within the proposed ACECs subject to validity patent examinations;

• Require Plans of Operations for any Notice-level locatable mineral development per 43 CFR 3809 regulations; and

• Prioritize the removal of un-needed infrastructure, including mining or ROW equipment, roads, range developments and fencing.

Please note that public comments and information submitted including names, street addresses and email addresses of persons who submit comments will be available for public review and disclosure at the above address during regular business hours (7:45 a.m.-4:30 p.m.), Monday through Friday, except holidays.

Before including an address, phone number, email address, or other personal identifying information in any comments, be aware that the entire comment—including personal identifying information—may be made publicly available at any time. Requests to withhold personal identifying information from public review, may be submitted, but the BLM cannot guarantee that it will be able to do so.

Authority: 40 CFR 1506.6, 40 CFR 1506.10, 43 CFR 1610.2.

Jenna Whitlock,
Associate State Director.

[FR Doc. 2013-26221 Filed 10-31-13; 8:45 am]

BILLING CODE 4310-DQ-P